DEPARTMENT OF HEALTH AND HUMAN SERVICES

Office of the Secretary

Emergency Public Information and Communications Advisory Committee; Notice of Meetings

Pursuant to section 10(a) of the Federal Advisory Committee Act, as amended (5 U.S.C. Appendix 2), notice is given of series of three meetings of the Emergency Public Information and Communications Advisory Committee.

The purpose of these public meetings is to convene the Committee to discuss issues related to the appropriate ways to communicate public health information regarding bioterrorism and other public health emergencies to the nation. Major areas to be considered by the Committee at these meetings may include the following: an assessment of current practices within the public health community for communicating with the public regarding threats posed by bioterrorism and other public health emergencies, identification of those particular practices that warrant broad use and how such use might best be encouraged within the nation's public health community, and determination of where new or improved communication strategies and methods are needed and how they might best be developed.

Name of Committee: Emergency Public Information and Communications Advisory Committee.

Dates: June 2-3, 6 and 9.

Times:

June 2—10 a.m.-5:30 p.m. EDT

June 3—9 a.m.-3:30 p.m. EDT

June 6—1 p.m.-4 p.m. EDT

June 10—1 p.m.-4 p.m. EDT

Place: U.S. Department of Health and Human Services, Hubert H. Humphrey Building, 200 Independence Ave. SW., Washington, DC 20201.

Conference Call Number: June 6 and 10, dial 888-942-8131, password: EPIC.

Contact Person: Shellie Abramson, Office of the Assistant Secretary for Public Emergency Preparedness, 200 Independence Ave. Room 625G, Washington, DC 20201, 202-205-4729.

Supplementary Information: Emergency Public Information and Communications Advisory Committee was established on March 26, 2003 by the Secretary of Health and Human Services under the authorization of Public Law 107-188 section 104(a) dated June 12, 2002, which amended section 319F of the Public Health Services Act. The purpose of the Emergency Public Information and Communications Advisory Committee will be to advise the Secretary on the appropriate ways to communicate public health information regarding bioterrorism and other public health emergencies to the nation. The function of the Committee is to advise the Secretary regarding steps the U.S. Department of Health and Human Services can take to improve communications with the public regarding threats posed by bioterrorism and other public health emergencies.

Public Participation

The meetings are open to the public with attendance limited by the availability of space on a first come, first served basis. Members of the public who wish to attend the meeting may register by emailing EPIC@hhs.gov no later than close of business, day, May 23, 2003.

Opportunities for oral statements by the public will be provided on June 2, 2003, from 5 p.m.-5:30 p.m. (Time approximate). Oral comments will be limited to 5 minutes, three minutes to make a statement and two minutes to respond to questions from Council members. Due to time constraints, only one representative from each organization will be allotted time for oral testimony. The number of speakers and the time allotment may also be limited by the number of registrants. Members of the public who wish to present oral comments at the meeting may register by emailing EPIC@hhs.gov no later than close of business, day, May 23, 2003. All requests to present oral comments should include the name, address, telephone number, and business or professional affiliation of the interested party, and should indicate the areas of interest or issue to be addressed.

Any person attending the meeting who has not registered to speak in advance of the meeting will be allowed to make a brief oral statement during the time set aside for public comment if time permits and at the Chairperson's discretion. Individuals unable to attend the meeting, or any interested parties, may send written comments by e-mail to EPIC@hhs.gov for inclusion in the public record no later than close of business, day, May 23, 2003.

When mailing written comments, please provide your comments, if possible, as an electronic version or on a diskette. Persons needing special assistance, such as sign language interpretation or other special accommodations, should contact staff at the address and telephone number listed above no later than close of business, day, May 23, 2003.

The public can gain access to the conference call meetings by dialing toll-free, 888-942-8131 and using the conference call password EPIC. At the end of the committee conference calls, the line will be opened 30 minutes to take questions or brief comments from the public.

Jerome M. Hauer,
Assistant Secretary for Public Health Emergency Preparedness (Acting).

[FR Doc. 03-11819 Filed 5-12-03; 8:45 am]

BILLING CODE 4168-17-P